DEPARTMENT OF AGRICULTURE

Forest Service

Notice of Proposed New Fee Sites

AGENCY: Forest Service, Agriculture (USDA).

ACTION: Notice of proposed new fee sites.

SUMMARY: The Humboldt-Toiyabe National Forest (Forest) is proposing to charge new fees at one group campground, two campgrounds, and one new horse campground. These sites are currently in use by the public but are not currently charging fees for use. Funds from fees would be used for the continued operation and maintenance of these recreation sites. Fees are assessed based on the level of amenities and services provided, cost of operation and maintenance, market assessment, and public comment. Significant capital improvements made in the past few years, coupled with increased visitation, support a fee. A review of visitor use data and fee collection information for existing fee campgrounds and group campgrounds on the Forest demonstrate public need and demand for the variety of recreation opportunities these facilities provide.

DATES: If approved, the new fee would be implemented no earlier than six months following the publication of this notice in the Federal Register.

ADDRESSES: Humboldt-Toiyabe National Forest, Attention: Erin Rajala, 825 Avenue E, Ely, Nevada 89301 or erin.rajala@usda.gov.

FOR FURTHER INFORMATION CONTACT: Erin Rajala, Recreation and Wilderness Program Manager at 775-289-5129. Information about proposed fee changes can also be found on the Humboldt-Toiyabe National Forest website: https://www.fs.usda.gov/htnf.

SUPPLEMENTARY INFORMATION: The Federal Recreation Lands Enhancement Act (Title VII, Pub. L. 108-447) directed the Secretary of Agriculture to publish a six-month advance notice in the Federal Register whenever new recreation fee areas are established. A market analysis indicated that the proposed fees are both reasonable and acceptable for the type of recreation experience they provide.

The fees are only proposed at this time and will be determined upon further analysis and public comment. The following campground and group campground are included in this proposal for new fees: Horse Campground for $10 per night and Kalamazoo and White River Campgrounds for $5 per night. Bird Creek Campground is proposing a new double campsite fee for $15 per night and group sites at $20 and $45 per night.

Once public involvement is complete, these new fees will be reviewed and approved by a Recreation Resource Advisory Committee prior to a final decision and implementation.

Dated: September 29, 2021.
Sandra Watts,
Acting Associate Deputy Chief, National Forest System.

[FR Doc. 2021-21571 Filed 10-4-21; 8:45 am]

BILLING CODE 3411-15-P